DEPARTMENT OF THE INTERIOR

National Park Service

[NPS-WASO-NRNHL-13730; PPWOCRADI0, PCU00RP14.R50000]

Landmarks Committee of the National Park System Advisory Board Meeting

AGENCY: National Park Service, Interior.

ACTION: Notice of meeting.

SUMMARY: Notice is hereby given in accordance with the Federal Advisory Committee Act, 5 U.S.C. Appendix 1-16, and Part 65 of title 36 of the Code of Federal Regulations, that a meeting of the Landmarks Committee of the National Park System Advisory Board will be held beginning at 9:00 a.m. on December 17, 2013, in Washington, DC. The meeting will continue beginning at 9:00 a.m. on December 18, 2013.

DATES: The meeting will be held on December 17, 2013, from 9:00 a.m. to 4:30 p.m.; and December 18 from 9:00 a.m. to 4:30 p.m., Eastern Standard Time.

Location: The Charles Sumner School Museum and Archives, 3rd Floor, The Richard L. Hurlbut Memorial Hall, 1201 17th Street NW., Washington, DC 20036.

Agenda: The National Park System Advisory Board and its Landmarks Committee may consider the following nominations:

California

California Powder Works Bridge, Santa Cruz County, CA

Florida

The Research Studio, Maitland, FL

Indiana

Duck Creek Aqueduct, Metamora, Franklin County, IN

Louisiana

The St. Charles Line, New Orleans, LA

Maine

Admiral Robert E. Peary Summer Home, Harpswell, ME

Perkins Homestead, New Castle, ME

Massachusetts

Lydia Pinkham House, Lynn, MA

Michigan

GM Tech Center, Warren, MI

New Jersey

Baltusrol Golf Club, Springfield, NJ

Vermont

Brown Bridge, Rutland County, VT

Proposed Amendments to Existing Designations:

Pennsylvania

Andrew Wyeth Studio and Kuerner Farm, Chadds Ford Township, PA (updated documentation, boundary expansion, and name change)

Montana and North Dakota

Fort Union Trading Post, Williams County, ND, and Roosevelt County, MT (updated documentation)

Ohio

Colonel Charles Young House, Greene County, OH (updated documentation)

Proposed Withdrawal of Designations:

Virginia

Eight-Foot High Speed Tunnel, Hampton (City), VA

Full Scale 30- x 60-Foot Tunnel, Hampton (City), VA

FOR FURTHER INFORMATION CONTACT: Patricia Henry, Historian, National Historic Landmarks Program, National Park Service, 1201 Eye Street NW., 8th Floor, Washington, DC 20005; telephone (202) 354-2216 or email: Patty_Henry@nps.gov.

SUPPLEMENTARY INFORMATION: The purpose of the meeting of the Landmarks Committee of the National Park System Advisory Board is to evaluate nominations of historic properties in order to advise the National Park System Advisory Board of the qualifications of each property being proposed for National Historic Landmark (NHL) designation, and to make recommendations regarding the possible designation of those properties as National Historic Landmarks to the National Park System Advisory Board at a subsequent meeting at a place and time to be determined. The Committee also makes recommendations to the National Park System Advisory Board regarding amendments to existing designations and proposals for withdrawal of designation. The members of the Landmarks Committee are:

Ms. Belinda Faustinos, Acting Chair

Dr. James M. Allan

Dr. Cary Carson

Mr. Luis Hoyos, AIA

Dr. Barbara J. Mills

Dr. William J. Murtagh

Dr. William D. Seale

Dr. Michael E. Stevens

The meeting will be open to the public. Pursuant to 36 CFR Part 65, any member of the public may file, for consideration by the Landmarks Committee of the National Park System Advisory Board, written comments concerning the National Historic Landmarks nominations, amendments to existing designations, or proposals for withdrawal of designation.

Comments should be submitted to J. Paul Loether, Chief, National Register of Historic Places and National Historic Landmarks Program, National Park Service, 1201 Eye Street NW., 8th Floor, Washington, DC 20005, email: Paul_Loether@nps.gov.

Before including your address, phone number, email address, or other personal identifying information in your comment, you should be aware that your entire comment—including your personal identifying information—may be made publicly available at any time. While you can ask us in your comment to withhold your personal identifying information from public review, we cannot guarantee that we will be able to do so.

Dated: November 13, 2013.
Alma Ripps,
Chief, Office of Policy.

[FR Doc. 2013-27565 Filed 11-18-13; 8:45 am]

BILLING CODE 4312-51-P